CORPORATION FOR NATIONAL AND COMMUNITY SERVICE

Availability of Funds for Grants to Support New Senior Companion Projects

AGENCY: Corporation for National and Community Service.

ACTION: Notice of availability of funds.

SUMMARY: The Corporation for National and Community Service (hereinafter, the “Corporation”) announces the availability of approximately $1,000,000 for grants to support five new Senior Companion Projects in geographic areas that do not fall within approved service areas of current Senior Companion Projects. Individual grant awards will be approximately $200,000 to cover the costs of 45 Senior Companions for twelve months. The purpose of the Senior Companion Program (SCP) is to provide opportunities for income eligible individuals 60 years of age and over to serve frail adults.

DATES: Applications must be received by 5:00 p.m (Eastern Daylight Time) July 14, 2000.

ADDRESSES: Five original signature copies of the application must be submitted to the following address: Corporation for National and Community Service, National Senior Service Corps, 1201 New York Avenue, NW, Washington, DC 20525 Attn: Mr. John Keller. The Corporation will not accept applications that are submitted via facsimile or e-mail transmission. Applications submitted via overnight mail that arrive after the closing date will be accepted if they are postmarked at least two days prior to the closing date. Otherwise, late applications will not be accepted.

Applications: Applications can be obtained by contacting the appropriate Corporation State office listed below. A copy of the Federal Regulations that govern the SCP will be included with the application package.

FOR FURTHER INFORMATION CONTACT: Contact John Keller at 202-606-5000 ext. 285. TDD (202) 565-2799. This notice may be requested in an alternative format for the visually impaired.

SUPPLEMENTARY INFORMATION:

A. Background

The Corporation is a federal government corporation that encourages Americans of all ages and backgrounds to engage in community-based service. This service addresses the nation's educational, public safety, environmental, and other human needs to achieve direct and demonstrable results. In supporting service programs, the Corporation fosters civic responsibility, strengthens the ties that bind us together as a people, and provides educational opportunity for those who make a substantial commitment to service.

The Senior Companion Program (SCP) is authorized by the Domestic Volunteer Service Act of 1973, as amended (Public Law 93-113, Title II, Part B, 42 U.S.C. 5013) and provides opportunities for income eligible individuals 60 years of age and over to serve adults with special needs. The SCP was launched in 1974 with its first 11 projects. Today there are over 14,000 Senior Companions serving 61,900 frail adults annually in 207 local SCP projects. These Senior Companions provide high quality and reliable personal support to adults, primarily frail elderly, experiencing difficulties with activities of daily living, allowing them to live independently in their own homes for as long as possible. The SCP focuses on those with moderate physical, mental or emotional impairments who are without adequate family support and who in the absence of non-medical support services would be at risk of institutionalization. Senior Companions also assist clients in patient discharge programs at acute care, mental health, and long-term care facilities to make the transition to living in less restrictive community settings. Some Senior Companions provide short-term respite for primary care givers of frail adults in times of special need.

B. Purpose

The purpose of the new Senior Companion Projects is to expand the program to serve new geographic locations currently unserved by the program. It is expected that the new projects will create quality opportunities for seniors to provide in-home assistance to frail adults, enabling them to live independently.

C. Eligible Applicants

Public agencies (including state and local agencies and other units of government), non-profit organizations, institutions of higher education and Indian Tribes are eligible to apply. Sponsors of Senior Companion Projects that receive no funds from the Corporation, other than funding for Programs of National Significance (PNS), are eligible to apply. Current sponsors of Senior Companion Projects funded by the Corporation are not eligible to apply. However, an organization described in Section 501(c)(4) of the Internal Revenue Code of 1986, (26 U.S.C. 501(c)(4)) that engages in lobbying activities is not eligible to apply, serve as a host site for volunteers, or act in any type of supervisory role in the program.

D. Number of Awards

The Corporation intends to fund five projects in approved service areas that do not currently have a local project of the Senior Companion Program.

E. Suggested Amounts of Awards

The average amount of awards will be approximately $200,000.

F. Program Period of Performance

The program period for all grants is twelve months. Future funding is contingent on performance and the availability of appropriations.

G. Submission Requirements

To be considered for funding, applicants must submit five copies of the following:

(1) An Application for Federal Assistance, Form 424-NSSC

• Part I—Facesheet (Modified Standard Form 424-with original signature)

• Part II—Budget (NSSC Form 424A-with accompanying Budget Narrative)

• Part IV—Attachments

• Part V—Assurances (Form 424B-with original signature)

• Part VI—Certifications (Form 424C-with original signature)

(2) A Project Narrative with completed Project Planning and Reporting Workplans

(3) Verification of status as a non-profit organization as described in Section 501 (c)(3) of the Internal Revenue Code (if a non-profit organization)

H. Selection Criteria

The Corporation will initially determine: (1) whether the organization is eligible; (2) whether the application contains the information required in the application materials, and (3) whether the geographic location of the proposed project is an approved geographic service area that does not currently have a federally funded SCP.

After this initial screening, the Corporation will select and evaluate applications based on the following criteria:

(1) Program Design (60%):

(a) Getting Things Done: meeting community needs.

(b) Strengthening Communities.

(c) Fostering Participant Development.

(2) Organizational Capacity (25%)

(3) Budget/Cost-Effectiveness (15%)

The Corporation will take into consideration the following factors after the proposals are assessed:

Geographic location: The Corporation will assure a mix of urban and rural sites.

Diversity: The Corporation will select organizations whose local projects have the capacity to recruit ethnic and racial minorities, males and persons with disabilities.

I. Applicable Regulations

Regulations governing the SCP are located in 45 CFR Part 2551.

J. Program Authority

Corporation Authority to make these grants is codified in 42 U.S.C. 4950 et seq.

Corporation State Office Information
State Office | Address | City | State | Zip Code | Phone | FAX
AK | Jackson Federal Building, 915 Second Avenue, Suite 3190 | Seattle | WA | 98174-1103 | (206) 220-7736 | (206) 553-4415
AL | Medical Forum, 950 22nd St., N., Suite 428 | Birmingham | AL | 35203 | (205) 731-0027 | (205) 731-0031
AR | Federal Building, Room 2506, 700 West Capitol Street | Little Rock | AR | 72201 | (501) 324-5234 | (501) 324-6949
AZ | 522 North Central Room 205A | Phoenix | AZ | 80504-2190 | (602) 379-4825 | (602) 379-4030
CA | 11150 W. Olympic Blvd., Suite 670 | Los Angeles | CA | 90064 | (310) 235-7421 | (310) 235-7422
CO | 999 Eighteenth Street, Suite 1440 South | Denver | CO | 80202 | (303) 312-7952 | (303) 312-7954
CT | 1 Commercial Plaza, 21st Floor | Hartford | CT | 06103-3510 | (860) 240-3237 | (860) 240-3238
FL | 3165 McCrory Street, Suite 115 | Orlando | FL | 32803-3750 | (407) 648-6117 | (407) 648-6116
GA | 75 Piedmont Avenue, N.E., Room 902 | Atlanta | GA | 30303-2587 | (404) 331-4646 | (404) 331-2898
HI | 300 Ala Moana Blvd., Room 6213 | Honolulu | HI | 96850-0001 | (808) 541-2832 | (808) 541-3603
IA | Federal Building, Room 917, 210 Walnut Street | Des Moines | IA | 50309-2195 | (515) 284-4816 | (515) 284-6640
ID | 304 North 8th Street, Room 344 | Boise | ID | 83702-5835 | (208) 334-1707 | (208) 334-1421
IL | 77 West Jackson Boulevard, Suite 442 | Chicago | IL | 60604-3511 | (312) 353-3622 | (312) 353-5343
IN | 46 East Ohio Street, Room 457 | Indianapolis | IN | 46204-1922 | (317) 226-6724 | (317) 226-5437
KS | 444 S.E. Quincy, Room 260 | Topeka | KS | 66683-3572 | (785) 295-2540 | (785) 295-2596
KY | 600 Martin L. King Place, Room 372-D | Louisville | KY | 40202-2230 | (502) 582-6384 | (502) 582-6386
LA | 707 Florida Street, Suite 316 | Baton Rouge | LA | 70801 | (504) 389-0471 | (504) 389-0510
MA/VT | 10 Causeway Street, Room 473 | Boston | MA | 02222-1038 | (617) 565-7001 | (617) 565-7011
MD/DE | Fallon Federal Bldg., 31 Hopkins Plaza, Suite 400-B | Baltimore | MD | 21201 | (410) 962-4443 | (410) 962-3201
MI | 211 West Fort Street, Suite 1408 | Detroit | MI | 48226-2799 | (313) 226-7848 | (313) 226-2557
MN | 431 South 7th Street, Room 2480 | Minneapolis | MN | 55415-1854 | (612) 334-4083 | (612) 334-4084
MO | 801 Walnut Street, Suite 504 | Kansas City | MO | 64106-2009 | (816) 374-6300 | (816) 374-6305
MS | 100 West Capitol Street, Room 1005A | Jackson | MS | 39269-1092 | (601) 965-5664 | (601) 965-4671
MT | 208 North Montana Avenue, Suite 206 | Helena | MT | 59601-3837 | (406) 449-5404 | (406) 449-5412
N/SD | 225 S. Pierre Street, Room 225 | Pierre | SD | 57501-2452 | (605) 224-5996 | (605) 224-9201
NC | 300 Fayetteville Street Mall, Room 131 | Raleigh | NC | 27601-1739 | (919) 856-4731 | (919) 856-4738
NE | Federal Building, Room 156, 100 Centennial Mall North | Lincoln | NE | 68508-3896 | (402) 437-5493 | (402) 437-5495
NH/ME | 1 Pillsbury Street, Suite 201 | Concord | NH | 03301-3556 | (603) 225-1450 | (603) 225-1459
NJ | 44 South Clinton Ave., Room 702 | Trenton | NJ | 08609-1507 | (609) 989-2243 | (609) 989-2304
NM | 120 S. Federal Place, Room 315 | Sante Fe | NM | 87501-2026 | (505) 988-6577 | (505) 988-6661
NV | 4600 Kietzke Lane, Suite E-141 | Reno | NV | 89502-5033 | (775) 784-5314 | (775) 784-5026
NY | Clinton Ave. & Pearl St., Room 818 | Albany | NY | 12207 | (518) 431-4150 | (518) 431-4154
OH | 51 North High Street, Suite 451 | Columbus | OH | 43215 | (614) 469-7441 | (614) 469-2125
OK | 215 Dean A. McGee, Suite 324 | Oklahoma City | OK | 73102 | (405) 231-5201 | (405) 231-4329
OR | 2010 Lloyd Center | Portland | OR | 97232 | (503) 231-2103 | (503) 231-2106
PA | Robert N.C. Nix Federal Bldg., 900 Market St., Suite 229 | Philadelphia | PA | 19107 | (215) 597-2806 | (215) 597-2807
PR/VI | 150 Carlos Chardon Ave., Suite 662 | San Juan | PR | 00918-1737 | (787) 766-5314 | (787) 766-5189
RI | 400 Westminster Street, Room 203 | Providence | RI | 2903 | (401) 528-5426 | (401) 528-5220
SC | 1835 Assembly Street, Suite 872 | Columbia | SC | 29201-2430 | (803) 765-5771 | (803) 765-5777
TN | 265 Cumberland Bend Drive | Nashville | TN | 37228 | (615) 736-5561 | (615) 736-7937
TX | 903 San Jacinto, Suite 130 | Austin | TX | 78701-3747 | (512) 916-5671 | (512) 916-5806
UT | 350 S. Main Street, Room 504 | Salt Lake City | UT | 84101-2198 | (801) 524-5411 | (801) 524-3599
VA/DC | 400 North 8th Street, Suite 446 P.O. Box 10066 | Richmond | VA | 23240-1832 | (804) 771-2197 | (804) 771-2157
WA | Jackson Federal Bldg., Suite 3190, 915 Second Ave | Seattle | WA | 98174-1103 | (206) 220-7745 | (206) 553-4415
WI | 310 W. Wisconsin Ave., Room 1240 | Milwaukee | WI | 53203-2211 | (414) 297-1118 | (414) 297-1863
WV | 10 Hale Street, Suite 203 | Charleston | WV | 25301-1409 | (304) 347-5246 | (304) 347-5464
WY | Federal Building, Room 1110, 2120 Capitol Avenue | Cheyenne | WY | 82001-3649 | (307) 772-2385 | (307) 772-2389

Dated: April 18, 2000.
Gary Kowalczyk,
Coordinator, National Service Programs, Corporation for National and Community Service.

[FR Doc. 00-10070 Filed 4-21-00; 8:45 am]

BILLING CODE 6050-28-P